DEPARTMENT OF ENERGY

Federal Energy Regulatory Commission

Sunshine Act Meeting

July 5, 2000.

The following notice of meeting is published pursuant to section 3(a) of the Government in the Sunshine Act (Pub. L. No. 94-409), 5 U.S.C. 552B:

Agency Holding Meeting: Federal Energy Regulatory Commission.

Date and Time: July 12, 2000, 10:00 a.m.

Place: Room 2C, 888 First Street, N.E., Washington, D.C. 20426.

Status: Open.

Matters To Be Considered: Agenda.

Note: Items listed on the agenda may be deleted without further notice.

Contact Person for More Information: David P. Boergers, Secretary, Telephone (202) 208-0400. For a recording listing items stricken from or added to the meeting, call (202) 208-1627.

This is a list of matters to be considered by the Commission. It does not include a listing of all papers relevant to the items on the agenda; however, all public documents may be examined in the Reference and Information Center.

745th—Meeting July 12, 2000, Regular Meeting (10:00 a.m.)

Consent Agenda—Markets, Tariffs and Rates—Electric

CAE-1.

Docket# ER00-2360, 000, Pacific Gas and Electric Company

Other#s ER00-2360, 001, Pacific Gas and Electric Company

CAE-2.

Docket# ER00-2485, 000, New England Power Pool

Other#s ER00-1572, 001, USGEN New England, Inc.

CAE-3.

Docket# ER00-2581, 000, California Independent System Operator Corporation

Other#s ER00-2582, 000, California Independent System Operator Corporation

ER00-2583, 000, California Independent System Operator Corporation

CAE-4.

Docket# ER00-2621, 000, Entergy Louisiana, Inc.

CAE-5.

Docket# ER00-1820, 000, Commonwealth Edison Company

Other#s ER00-1820, 001, Commonwealth Edison Company of Indiana

CAE-6.

Docket# EC00-27, 000, Utilicorp United, Inc.

Other#s EC00-27, 001, Utilicorp United, Inc.

EC00-28, 000, Utilicorp United, Inc.

EC00-28, 001, Utilicorp United, Inc.

CAE-7.

Docket# EC00-91, 000, Conectiv and NRG Energy, Inc.

CAE-8.

Docket# EC00-75, 000, Nisource, Inc.

CAE-9.

Docket# ER94-736, 001, Washington Water Power Company

Other#s ER94-760, 001, Puget Sound Energy, Inc.

ER94-759, 001, Puget Sound Energy, Inc.

ER94-752, 001, Puget Sound Energy, Inc.

ER94-750, 001, Puget Sound Energy, Inc.

ER94-749, 001, Puget Sound Energy, Inc.

ER94-685, 001, Pacificorp

CAE-10.

Docket# ER00-800, 001, California Independent System Operator Corporation

Other#s EL00-58, 000, Western Power Trading Forum v. California Independent System Operator Corporation

ER00-900, 001, Pacific Gas and Electric Company

CAE-11.

Omitted

CAE-12.

Docket# EC00-57 001, Baltimore Gas and Electric Company, Calvert Cliffs, Inc., Constellation Enterprises, Inc. and Constellation Generation, Inc.

CAE-13.

Docket# ER00-1933, 001, Entergy Services, Inc.

CAE-14.

Docket# RM00-10, 000, Open Access Same-Time Information System Phase II

CAE-15.

Omitted

CAE-16.

Docket# EL00-70, 000, New York State Electric & Gas Corporation v. New York Independent System Operator, Inc.

Other#s EL00-70, 001, New York State Electric & Gas Corporation v. New York Independent System Operator, Inc.

ER00-2624, 000, New York Independent System Operator, Inc.

Consent Agenda—Markets, Tariffs and Rates—Gas

CAG-1.

Docket# RP00-317, 000, Mississippi Canyon Gas Pipeline, LLC

CAG-2.

Docket# RP00-330, 000, Dauphin Island Gathering Partners

CAG-3.

Docket# RP00-348, 000, Canyon Creek Compression Company

CAG-4.

Omitted

CAG-5.

Docket# RP00-353, 000, Black Marlin Pipeline Company

CAG-6.

Docket# RP00-2, 000, Overthrust Pipeline Company

CAG-7.

Docket# IS00-233, 000, Alpine Transportation Company

CAG-8.

Docket# RP00-310, 000, Discovery Gas Transmission LLC

Other#s RP00-310, 001, Discovery Gas Transmission LLC

CAG-9.

Docket# CP96-152, 026, Kansas Pipeline Company

CAG-10.

Docket# RP00-239, 001, Pine Needle LNG Company, LLC

CAG-11.

Omitted

CAG-12.

Omitted

CAG-13.

Docket# RP93-5, 037, Northwest Pipeline Corporation

Other#s RP93-5, 038, Northwest Pipeline Corporation

RP93-5, 039, Northwest Pipeline Corporation

RP93-96, 015, Northwest Pipeline Corporation

RP93-96, 016, Northwest Pipeline Corporation

RP93-96, 017, Northwest Pipeline Corporation

CAG-14.

Docket# RM00-6, 000, Well Category Determinations

CAG-15.

Docket# RP00-212, 000, NUI Corporation (City Gas Company of Florida Division) v. Florida Gas Transmission Company

CAG-16.

Docket# MG00-7, 000, Texas Gas Transmission Corporation

CAG-17.

Docket# PR00-7, 000, Duke Energy Texas Intrastate Pipeline, LLC

Other#s PR00-7, 001, Duke Energy Texas Intrastate Pipeline, LLC

Consent Agenda—Energy Projects—Hydro

CAH-1.

Docket# P-2609, 014, Curtis/Palmer Hydroelectric Company LP and International Paper Company

CAH-2.

Docket# P-2114, 083, Public Utility District No. 2 of Grant County, Washington

Consent Agenda—Energy Projects—Certificates

CAC-1.

Docket# CP99-76, 001, Transcontinental Gas Pipe Line Corporation

CAC-2.

Docket# CP98-131, 003, Vector Pipeline L.P.

Other#s CP98-133, 004, Vector Pipeline L.P.

CP98-134, 003, Vector Pipeline L.P.

CP98-135, 003, Vector Pipeline L.P.

CP00-26, 000, Laura Lee Reesor V. Vector Pipeline L.P.

CAC-3.

Docket# CP99-522, 001, Transwestern Pipeline Company

CAC-4.

Docket# RM00-5, 000, Optional Certificate and Abandonment Procedures for Applications for new Service Under Section 7 of the Natural Gas Act

CAC-5.

Docket# RP00-220, 000, Town of Neligh, Nebraska v. Kinder Morgan Interstate Gas Transmission, L.L.C. and KN Energy, a Division of Kinder Morgan, Inc.

CAC-6.

Docket# CP97-315, 000, Independence Pipeline Company

Other#s CP97-319, 000, ANR Pipeline Company

CP97-320, 000, Independence Pipeline Company

CP97-321, 000, Independence Pipeline Company

CP98-200, 000, National Fuel Gas Supply Corporation

Energy Projects—Hydro Agenda

H-1.

Reserved

Energy Projects—Certificates Agenda

C-1.

Omitted

Markets, Tariffs and RATES—Electric Agenda

E-1.

Reserved

Markets, Tariffs and Rates—Gas Agenda

G-1.

Reserved

David P. Boergers,
Secretary.

[FR Doc. 00-17442 Filed 7-6-00; 10:54 am]

BILLING CODE 6717-01-P